DEPARTMENT OF EDUCATION

DEPARTMENT OF LABOR

Office of School-to-Work Opportunities; Advisory Council for School-to-Work Opportunities; Notice of Open Meeting

SUMMARY: The Advisory Council for School-to-Work Opportunities was established by the Departments of Education and Labor to advise the Department on implementation of the School-to-Work Opportunities Act. The Council shall assess the progress of School-to-Work (STW) Opportunities systems development and program implementation; make recommendations regarding progress and implementation of the School-to-Work Opportunities initiative; advise on the effectiveness of the Federal role in providing venture capital to States and localities to develop STW system and act as advocates for implementing the STW on behalf of their stakeholders.

Time and Place: The Advisory Council for School-to-Work Opportunities will have an open meeting on Thursday, October 12, 2000 from 3:30 pm to 7:00 pm and on Friday, October 13, 2000, from 8:30 am to 12:00 noon. The meeting will be held at the Hotel George, Leaders Room, 15 E Street, NW., Washington, DC 20001.

Agenda: The agenda for the meeting on Thursday, October 12 opens with remarks by the Co-Chairs of the Advisory Council Jacquelyn Belcher, President, Perimeter College of Decatur, Georgia and John McKernan, Vice-President of the Education Management Corporation, Portland, Maine. Following the opening, the Council will meet with representatives of the National School-to-Work to discuss issues related to the national leadership and sustainability of the STW initiative and to hear presentations from Council members on this topic. Friday, October 13 the Advisory Council will meet in small group working sessions from 8:30 a.m. to 11:00 a.m. These will be followed by a report-out to representatives of the Department of Education and Labor.

Public Participation: The meetings on Thursday, October 12 and Friday, October 13 will be open to the public. Seats will be reserved for the media. Individuals with disabilities in need of special accommodations should contact the Designated Federal Official (DFO), listed below, at least 7 days prior to the meeting.

FOR ADDITIONAL INFORMATION CONTACT: Stephanie J. Powers, Designated Federal Official (DFO), Advisory Council for School-to-Work Opportunities, Office of School-to-Work Opportunities, 400 Virginia Avenue, SW., Room 210, Washington, DC, 202-401-6222. (This is not free number.)

Due to the schedules of the participants, we are unable to provide the full 15 days of advance notice of this meeting.

Signed at Washington, D.C., this 27th day of September, 2000.
Raymond L. Bramucci,
Assistant Secretary for Employment and Training.
Patricia W. McNeil,
Assistant Secretary for Vocational and Adult Education.

[FR Doc. 00-25355 Filed 10-2-00; 8:45 am]

BILLING CODE 4510-30-M